OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Quasette Crowner, Chief, Executive Resources Group, Center for Leadership and Executive Resources Policy, Division for Strategic Human Resources Policy, 202-606-8046.

SUPPLEMENTARY INFORMATION: Appearing in the listing below are the individual authorities established under Schedules A, B and C between March 1, 2005 and March 31, 2005. Future notices will be published on the fourth Tuesday of each month, or as soon as possible thereafter. A consolidated listing of all authorities as of June 30 is published each year.

Schedule A

No Schedule A appointments during March 2005.

Schedule B

No Schedule B appointments during March 2005.

Schedule C

The following Schedule C appointments were approved for March 2005:

Section 213.3303 Executive Office of the President

Office of Management and Budget

BOGS00153 Special Assistant to the Director, Office of Management and Budget. Effective March 14, 2005.

BOSL00003 Special Assistant to the Administrator, Office of Information and Regulatory Affairs. Effective March 23, 2005.

Office of National Drug Control Policy

QQGS00031 Legislative Analyst to the Associate Director, Legislative Affairs. Effective March 02, 2005.

QQGS00034 Policy Analyst to the Associate Deputy Director, State and Local Affairs. Effective March 09, 2005.

QQGS00040 Legislative Analyst to the Associate Director, Legislative Affairs. Effective March 15, 2005.

Section 213.3304 Department of State

DSGS60817 Legislative Management Officer to the Assistant Secretary for Legislative and Intergovernmental Affairs. Effective March 02, 2005.

DSGS60820 Public Affairs Specialist to the Assistant Secretary for Public Affairs. Effective March 04, 2005.

DSGS60943 Special Assistant to the Assistant Secretary for Public Affairs. Effective March 04, 2005.

DSGS60944 Protocol Assistant (Gifts) to the Chief of Protocol. Effective March 07, 2005.

DSGS60945 Foreign Affairs Officer (Visits) to the Chief of Protocol. Effective March 07, 2005.

DSGS60947 Staff Assistant (Visits) to the Supervisory Protocol Officer (Visits). Effective March 07, 2005.

DSGS60948 Legislative Management Officer to the Assistant Secretary for Legislative and Intergovernmental Affairs. Effective March 11, 2005.

DSGS60819

Public Affairs Specialist to the Assistant Secretary for Public Affairs. Effective March 15, 2005.

DSGS60950 Foreign Affairs Officer to the Assistant Secretary for Western Hemispheric Affairs. Effective March 30, 2005.

Section 213.3305 Department of the Treasury

DYGS00250 Director, Public Affairs to the Deputy Assistant Secretary (Public Affairs). Effective March 08, 2005.

DYGS00380 Deputy to the Assistant Secretary (Legislative Affairs) to the Assistant Secretary (Deputy Under Secretary) Legislative Affairs. Effective March 08, 2005.

DYGS00452 Special Assistant to the Director, Public Affairs. Effective March 11, 2005.

DYGS60418 Special Assistant to the Executive Secretary. Effective March 11, 2005.

DYGS00453 Staff Assistant to the Assistant Secretary (Public Affairs). Effective March 17, 2005.

DYGS60362 Special Assistant to the Assistant Secretary (Financial Institutions). Effective March 17, 2005.

DYGS00454 Director, Travel Operations to the Assistant Secretary (Management) and Chief Financial Officer. Effective March 28, 2005.

Section 213.3306 Department of Defense

DDGS16865 Staff Assistant to the Special Assistant to the Secretary of Defense for White House Liaison. Effective March 02, 2005.

DDGS16857 Writer-Editor to the Deputy Assistant Secretary of Defense (Internal Communications). Effective March 04, 2005.

DDGS16863 Defense Fellow to the Special Assistant to the Secretary of Defense for White House Liaison. Effective March 15, 2005.

DDGS16868 Defense Fellow to the Special Assistant to the Secretary of Defense for White House Liaison. Effective March 18, 2005.

DDGS16869 Staff Assistant to the Executive Director, Employer Support of the Guard and Reserve. Effective March 18, 2005.

Section 213.3307 Department of the Army

DWGS60010 Special Assistant to the Army General Counsel. Effective March 10, 2005.

DWGS60011 Special Assistant to the Principal Deputy Assistant of Army (Alt)/Director for Iraq Reconstruction and Program Management. Effective March 14, 2005.

DWGS60014 Confidential Assistant to the General Counsel. Effective March 18, 2005.

Section 213.3308 Department of the Navy

DNGS00064 Confidential Assistant to the Assistant Secretary of Navy (Installations and Environment). Effective March 17, 2005.

Section 213.3310 Department of Justice

DJGS00194 Senior Counsel to the Assistant Attorney General (Legal Policy). Effective March 04, 2005.

DJGS00049 Special Assistant to the Administrator of Juvenile Justice and Delinquency Prevention. Effective March 08, 2005.

DJGS00053 Special Assistant to the Director, Alcohol, Tobacco, Firearms, and Explosives. Effective March 08, 2005.

DJGS00138 Special Assistant to the Assistant Attorney General Tax Division. Effective March 10, 2005.

DJGS00154 Speech Writer to the Director, Office of Public Affairs. Effective March 11, 2005.

DJGS00028 Director of Congressional Affairs to the Administrator, Drug Enforcement Administration. Effective March 15, 2005.

DJGS00085 Speech Writer to the Director, Office of Public Affairs. Effective March 16, 2005.

DJGS00141 Special Assistant to the Assistant Attorney General, Criminal Division. Effective March 17, 2005.

DJGS00342 White House Liaison to the Attorney General. Effective March 24, 2005.

DJGS00400 Public Affairs Specialist to the United States Attorney, Western District, Virginia. Effective March 25, 2005.

Section 213.3311 Department of Homeland Security

DMGS00332 Press Assistant to the Director of Communications, Office of Domestic Preparedness, State and Local Government Coordination and Preparedness. Effective March 04, 2005.

DMGS00326 Special Assistant to the General Counsel. Effective March 10, 2005.

DMGS00330 Special Assistant to the Ombudsman. Effective March 10, 2005.

DMGS00333 Staff Assistant to the Director, National Capital Region Coordination. Effective March 10, 2005.

DMGS00334 Deputy Director of Communications to the Chief of Staff. Effective March 11, 2005.

DMGS00336 Special Assistant to the Chief of Staff. Effective March 15, 2005.

DMGS00335 Director of Scheduling and Advance to the Chief of Staff. Effective March 22, 2005.

DMGS00337 Assistant Commissioner for Legislative Affairs to the Commissioner, Customs and Border Protection. Effective March 23, 2005.

DMGS00338 Confidential Assistant to the Under Secretary for Information Analysis and Infrastructure Protection. Effective March 24, 2005.

DMGS00342 White House Liaison to the Chief of Staff. Effective March 29, 2005.

DMGS00339 Writer-Editor (Senior Speechwriter) to the Director of Speechwriting. Effective March 31, 2005.

Section 213.3312 Department of the Interior

DIGS61036 Associate Director for Communications to the Executive Director, Take Pride In America. Effective March 09, 2005.

DIGS61037 Special Assistant to the Assistant Secretary for Water and Science. Effective March 10, 2005.

DIGS05003 Special Assistant to the Deputy Director, Bureau of Land Management. Effective March 15, 2005.

Section 213.3313 Department of Agriculture

DAGS00777 Special Assistant to the Chief, Natural Research Conservation Service. Effective March 02, 2005.

DAGS00779 Confidential Assistant to the Executive Director, Center for Nutrition Policy and Promotion. Effective March 02, 2005.

DAGS00780 Confidential Assistant to the Administrator, Foreign Agricultural Service. Effective March 02, 2005.

DAGS00778 Director of Faith-Based and Community Initiatives to the Secretary. Effective March 04, 2005.

DAGS00781 Staff Assistant to the Administrator, Food Safety and Inspection Service. Effective March 18, 2005.

DAGS00782 Staff Assistant to the Associate Administrator for Management. Effective March 18, 2005.

DAGS00783 Special Assistant to the Under Secretary for Food Nutrition and Consumer Services. Effective March 24, 2005.

DAGS00784 Special Assistant to the Assistant Secretary for Congressional Relations. Effective March 24, 2005.

DAGS00785 Special Assistant to the Administrator to the Under Secretary for Marketing and Regulatory Programs. Effective March 24, 2005.

Section 213.3314 Department of Commerce

DCGS00507 Confidential Assistant to the Associate Director for Communications. Effective March 02, 2005.

DCGS60387 Confidential Assistant to the Executive Director for Trade Promotion and Outreach. Effective March 02, 2005.

DCGS60624 Senior Policy Advisor to the Assistant to the Secretary and Director, Office of Policy and Strategic Planning. Effective March 02, 2005.

DCGS60694 Chief, Congressional Affairs to the Associate Director for Communications. Effective March 02, 2005.

DCGS00422 Confidential Assistant to the Executive Director for Trade Promotion and Outreach. Effective March 04, 2005.

DCGS60440 Special Assistant to the Director Office of White House Liaison. Effective March 04, 2005.

DCGS60463 Confidential Assistant to the Deputy Under Secretary and Deputy Director of the U.S. Patent and Trademark Office. Effective March 04, 2005.

DCGS60618 Special Assistant to the Deputy Under Secretary and Deputy Director of the U.S. Patent and Trademark Office. Effective March 04, 2005.

DCGS60652 Confidential Assistant to the Executive Director for Trade Promotion and Outreach. Effective March 04, 2005.

DCGS00546 Special Assistant to the Deputy Assistant Secretary for Europe. Effective March 11, 2005.

DCGS00689 Confidential Assistant to the Assistant Secretary for Market Access and Compliance. Effective March 11, 2005.

DCGS60371 Policy Advisor to the Chief of Staff. Effective March 11, 2005.

DCGS60396 Legislative Affairs Specialist to the Director, Office of Legislative Affairs. Effective March 11, 2005.

DCGS60467 Confidential Assistant to a Public Affairs Specialist. Effective March 11, 2005.

DCGS60424 Legislative Affairs Specialist to the Director, Office of Legislative Affairs. Effective March 14, 2005.

DCGS00529 Policy Advisor to the Under Secretary, Oceans and Atmosphere (Administrator National and Oceanic and Atmospheric Administration). Effective March 16, 2005.

DCGS60604 Director, Office of Technology and E-Commerce to the Assistant Secretary for Manufacturing and Services. Effective March 16, 2005.

DCGS00306 Confidential Assistant to the Assistant Secretary for Congressional and Intergovernmental Affairs. Effective March 17, 2005.

DCGS60299 Confidential Assistant to the Assistant Secretary for Economic Development. Effective March 17, 2005.

DCGS60681 Speechwriter to the Under Secretary of Commerce for Intellectual Property and Director of the U.S. Patent and Trademark Office. Effective March 17, 2005.

DCGS60173 Senior Advisor to the Assistant Secretary for Economic Development. Effective March 30, 2005.

DCGS00628 Confidential Assistant to the Director of Public Affairs. Effective March 31, 2005.

Section 213.3315 Department of Labor

DLGS60043 Special Assistant to the Assistant Secretary for Occupational Safety and Health. Effective March 15, 2005.

DLGS60079 Special Assistant to the Assistant Secretary for Policy. Effective March 15, 2005.

DLGS60219 Staff Assistant to the Director of Operations. Effective March 15, 2005.

DLGS60239 Staff Assistant to the Executive Assistant to the Secretary. Effective March 15, 2005.

DLGS60137 Staff Assistant to the Executive Secretary. Effective March 17, 2005.

DLGS60094 Special Assistant to the Assistant Secretary for Public Affairs. Effective March 22, 2005.

DLGS60221 Special Assistant to the Assistant Secretary for Public Affairs. Effective March 22, 2005.

Section 213.3316 Department of Health and Human Services

DHGS60009 Special Assistant to the Assistant Secretary for Public Health Emergency Preparedness. Effective March 10, 2005.

DHGS60362 Director, Congressional Liaison Office to the Assistant Secretary for Legislation. Effective March 11, 2005.

DHGS60013 Confidential Assistant (Scheduling) to the Director of Scheduling. Effective March 16, 2005.

DHGS60018 Deputy Director, Scheduling and Advance to the Director of Scheduling. Effective March 16, 2005.

DHGS60695 Confidential Assistant (Briefing Book and Advance) to the Director of Scheduling. Effective March 17, 2005.

DHGS60008 Senior Advisor to the Assistant Secretary for Children and Families. Effective March 18, 2005.

DHGS60363 Director, Congressional Liaison Office to the Assistant Secretary for Legislation. Effective March 18, 2005.

DHGS60004 Director, Secretary's Prevention Initiatives to the Assistant Secretary, Health. Effective March 30, 2005.

DHGS60015 Deputy Director, Center for Faith Based and Community Initiatives to the Director, Center for Faith Based and Community Initiatives. Effective March 30, 2005.

Section 213.3317 Department of Education

DBGS00378 Confidential Assistant to the Deputy Assistant Secretary. Effective March 3, 2005.

DBGS00376 Director, Scheduling and Advance Staff to the Chief of Staff. Effective March 8, 2005.

DBGS00377 Confidential Assistant to the Deputy Assistant Secretary. Effective March 15, 2005.

DBGS00379 Confidential Assistant to the Assistant Secretary for Postsecondary Education. Effective March 18, 2005.

DBGS00381 Confidential Assistant to the Deputy General Counsel for Departmental and Legislative Service. Effective March 23, 2005.

DBGS00382 Confidential Assistant to the Press Secretary. Effective March 18, 2005.

Section 213.3318 Environmental Protection Agency

EPGS05025 Program Assistant to the Assistant Administrator for Environmental Information. Effective March 15, 2005.

EPGS03606 Press Secretary to the Associate Assistant Administrator for Public Affairs. Effective March 22, 2005.

EPGS05024 Deputy Associate Administrator to the Deputy Chief of Staff (Operations). Effective March 23, 2005.

EPGS05023 Audio Visual Producer to the Deputy Chief of Staff (Operations). Effective March 29, 2005.

Section 213.3325 United States Tax Court

JCGS60057 Secretary (Confidential Assistant) to the Chief Judge. Effective March 2, 2005.

Section 213.3327 Department of Veterans Affairs

DVGS60011 Special Assistant (White House Liaison) to the Assistant Secretary for Public and Intergovernmental Affairs. Effective March 7, 2005.

Section 213.3331 Department of Energy

DEGS00458 Special Assistant to the Secretary, Department of Energy. Effective March 18, 2005.

DEGS00459 Associate Deputy Assistant Secretary to the Assistant Secretary for Congressional and Intergovernmental Affairs. Effective March 18, 2005.

DEGS00462 Special Assistant to the Assistant Secretary of Energy (Environmental Management). Effective March 18, 2005.

DEGS00461 Senior Advisor to the Deputy Secretary of Energy. Effective March 24, 2005.

DEGS00453 Special Assistant to the Director, Office of Scheduling and Advance. Effective March 29, 2005.

Section 213.3331 Federal Energy Regulatory Commission

DRGS60005 Intergovernmental Affairs Specialist to the Deputy Director, External Affairs. Effective March 25, 2005.

Section 213.3332 Small Business Administration

SBGS00582 Senior Advisor to the Deputy Administrator. Effective March 2, 2005.

SBGS00583 Assistant Administrator to the Associate Administrator for Policy. Effective March 17, 2005.

SBGS00584 Policy Analyst to the Associate Administrator for Policy. Effective March 17, 2005.

Section 213.3337 General Services Administration

GSGS60024 Confidential Assistant to the Chief of Staff. Effective March 4, 2005.

GSGS00160 Congressional Relations Assistant to the Associate Administrator for Congressional and Intergovernmental Affairs. Effective March 17, 2005.

GSGS00161 Public Affairs Assistant to the Deputy Associate Administrator for Communications. Effective March 22, 2005.

Section 213.3343 Farm Credit Administration

FLOT00056 Special Assistant to the Member, Farm Credit Administration Board. Effective March 14, 2005.

Section 213.3348 National Aeronautics and Space Administration

NNGS00141 Executive Assistant to the Chief Financial Officer. Effective March 4, 2005.

NNGS01420 Congressional Relations Specialist to the Assistant Administrator for Legislative Affairs. Effective March 18, 2005.

NNGS01430 Executive Assistant to the General Counsel. Effective March 18, 2005.

NNGS01440 Strategic Communication Specialist to the Assistant Administrator for Public Affairs. Effective March 18, 2005.

Section 213.3355 Social Security Administration

SZGS00016 Special Assistant to the Chief of Staff. Effective March 22, 2005.

SZGS00014 Special Assistant to the Deputy Commissioner of Social Security. Effective March 23, 2005.

Section 213.3373 Trade and Development Agency

TDGS60002 Congressional Liaison Officer to the Director. Effective March 11, 2005.

Section 213.3379 Commodity Futures Trading Commission

CTGS60477 Attorney-Advisor (General) to a Commissioner. Effective March 2, 2005.

CTGS60012 Special Assistant to a Commissioner. Effective March 11, 2005.

Section 213.3384 Department of Housing and Urban Development

DUGS60434 Staff Assistant to the Assistant Deputy Secretary for Field Policy and Management. Effective March 2, 2005.

Section 213.3394 Department of Transportation

DTGS60292 Associate Director for Governmental Affairs to the Deputy Assistant Secretary for Governmental Affairs. Effective March 17, 2005.

DTGS60372 Deputy Assistant Secretary for Governmental Affairs to the Assistant Secretary for Governmental Affairs. Effective March 18, 2005.

DTGS60373 Special Assistant to the Administrator for Intergovernmental Affairs. Effective March 28, 2005.

DTGS60374 Special Assistant to the Administrator. Effective March 29, 2005.

Authority: 5 U.S.C. 3301 and 3302; E.O. 10577, 3 CFR 1954-1958 Comp., P.218

Office of Personnel Management.
Dan G. Blair,
Acting Director.

[FR Doc. 05-8217 Filed 4-25-05; 8:45 am]

BILLING CODE 6325-39-P